DEPARTMENT OF ENERGY

Federal Energy Regulatory Commission

[Project No. 14154-001]

William Arkoosh; Notice of Application Tendered for Filing With the Commission and Soliciting Additional Study Requests

Take notice that the following hydroelectric application has been filed with the Commission and is available for public inspection.

a. Type of Application: Original Minor License.

b. Project No.: 14154-001.

c. Date Filed: November 15, 2011.

d. Applicant: William Arkoosh.

e. Name of Project: Little Wood River Ranch II.

f. Location: On the Little Wood River, six miles west of the Town of Shoshone, Lincoln County, Idaho. The project would occupy approximately 0.5 acre of federal lands managed by the U.S. Bureau of Land Management.

g. Filed Pursuant to: Federal Power Act, 16 U.S.C. 791 (a)-825(r).

h. Applicant Contact: William Arkoosh, 2005 Highway 26, Gooding, Idaho 83330. Phone: (208) 539-5443.

i. FERC Contact: Jennifer Harper, phone: (202) 502-6136 or Jennifer.Harper@ferc.gov.

j. Cooperating Agencies: Federal, state, local, and tribal agencies with jurisdiction and/or special expertise with respect to environmental issues that wish to cooperate in the preparation of the environmental document should follow the instructions for filing such requests described in item l below. Cooperating agencies should note the Commission's policy that agencies that cooperate in the preparation of the environmental document cannot also intervene. See, 94 FERC ¶ 61,076 (2001).

k. Pursuant to Section 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for Filing Additional Study Requests and Requests for Cooperating Agency Status: January 14, 2012.

All documents may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-(866) 208-3676, or for TTY, (202) 502-8659. Although the Commission strongly encourages electronic filing, documents may also be paper-filed. To paper-file, mail an original and seven copies to: Kimberly D. Bose, Secretary, Federal Energy Regulatory Commission, 888 First Street, NE., Washington, DC 20426.

m. The application is not ready for environmental analysis at this time.

n. The Little Wood River Ranch II Project Consists of: (1) A 220-foot-long, 12-foot-wide rock rubble diversion dam, impounding a 9.1-acre reservoir on the Little Wood River; (2) a 3,900-foot-long feeder canal; (3) a concrete intake structure having two parallel 5-foot-diameter, 120-foot-long steel penstocks; (4) a 60-foot-long, 20-foot-wide, 25-foot-high concrete and steel power house containing two hydraulic Francis turbines with a total installed capacity of 1,230 kilowatts; (5) a 1,600-foot-long tailrace canal; (6) a 2.2-mile-long, 12.5-kilovolt transmission line; (7) an access road; and (8) appurtenant facilities.

o. A copy of the application is available for review at the Commission in the Public Reference Room or may be viewed on the Commission's Web site at http://www.ferc.gov using the “eLibrary” link. Enter the docket number excluding the last three digits in the docket number field to access the document. For assistance, contact FERC Online Support. A copy is also available for inspection and reproduction at the address in item h above.

You may also register online at http://www.ferc.gov/docs-filing/esubscription.asp to be notified via email of new filings and issuances related to this or other pending projects. For assistance, contact FERC Online Support.

p. With this notice, we are initiating consultation with the Idaho State Historic Preservation Officer (SHPO), as required by 106, National Historic Preservation Act, and the regulations of the Advisory Council on Historic Preservation, 36, CFR, at 800.4.

q. Procedural schedule: The application will be processed according to the following preliminary Hydro Licensing Schedule. Revisions to the schedule will be made as appropriate (e.g., if scoping is waived, the schedule would be shortened).

Issue Deficiency Letter | December 2011.
Issue Notice of Acceptance | February 2012.
Issue Scoping Document | February 2012.
Issue notice of ready for environmental analysis | April. 2012
Commission issues EA | August 2012.

Dated: November 30, 2011.
Kimberly D. Bose,
Secretary.

[FR Doc. 2011-31211 Filed 12-5-11; 8:45 am]

BILLING CODE 6717-01-P